FEDERAL ELECTION COMMISSION

Sunshine Act Meeting

AGENCY: Federal Election Commission.

DATE and TIME: Tuesday, January 31, 2017 at 2:30 p.m.

PLACE: 999 E Street NW., Washington, DC.

STATUS: This meeting was closed to the public.

ITEM DISCUSSED: Matters concerning participation in civil actions or proceedings or arbitration.

* * * * *

PERSON TO CONTACT FOR INFORMATION: Judith Ingram, Press Officer, Telephone: (202) 694-1220.

Dayna C. Brown,
Acting Secretary and Clerk of the Commission.

[FR Doc. 2017-02229 Filed 1-30-17; 4:15 pm]

BILLING CODE 6715-01-P